DEPARTMENT OF ENERGY

Federal Energy Regulatory Commission

[Docket Nos. RP01-217-004, CP01-76-008 & CP01-77-008]

Dominion Cove Point LNG, LP; Notice of Tariff Filing

September 5, 2003.

Take notice that on August 29, 2003, Dominion Cove Point LNG, LP (Cove Point) tendered for filing as part of its FERC Gas Tariff, Original Volume No. 1, Fourth Revised Sheet No. 11, with an effective date of October 1, 2003.

Cove Point states that the purpose of this filing is to correct the daily rates for capacity release for Rate Schedules FPS-1, FPS-2, FPS-3, and LTD-1.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: September 10, 2003.

Magalie R. Salas,
Secretary.

[FR Doc. 03-23378 Filed 9-12-03; 8:45 am]

BILLING CODE 6717-01-P